INTERNATIONAL TRADE COMMISSION

[Investigation Nos. 701-TA-469 and 731-TA-1168 (Review)]

Certain Seamless Carbon and Alloy Steel Standard, Line, and Pressure Pipe From China

Determinations

On the basis of the record ¹ developed in the subject five-year reviews, the United States International Trade Commission (“Commission”) determines, pursuant to the Tariff Act of 1930, that revocation of the countervailing duty order and antidumping duty order on Certain Seamless Carbon and Alloy Steel Standard, Line, and Pressure Pipe from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on October 1, 2015 (80 FR 59183) and determined on January 4, 2016 that it would conduct expedited reviews (81 FR 1966, January 14, 2016).

The Commission made these determinations pursuant to section 751(c) of the Tariff Act of 1930 (19 U.S.C. 1675(c)). It completed and filed its determinations in these reviews on March 2, 2016.² The views of the Commission are contained in USITC Publication 4595 (February 2016), entitled Certain Seamless Carbon and Alloy Steel and Standard, Line, and Pressure Pipe from China: Investigation Nos. 701-TA-469 and 731-TA-1168 (Review).

² The Commission has the authority to toll statutory deadlines during a period when the federal government is closed. Because the Commission was closed on January 25 and 26, 2016 due to inclement weather in Washington, DC, the Commission tolled the statutory deadline in these reviews by two days.

By order of the Commission.
Issued: March 2, 2016.
Lisa R. Barton,
Secretary to the Commission.

[FR Doc. 2016-04998 Filed 3-4-16; 8:45 am]

BILLING CODE 7020-02-P